DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 5, 2009.

Interested persons are invited to submit written comments regarding the subject matter of the investigations to the Director, Division of Trade Adjustment Assistance, at the address shown below, not later than February 5, 2009.

The petitions filed in this case are available for inspection at the Office of the Director, Division of Trade Adjustment Assistance, Employment and Training Administration, U.S. Department of Labor, Room N-5428, 200 Constitution Avenue, NW., Washington, DC 20210.

Signed at Washington, DC, this 12th day of January 2009.
Linda G. Poole,
Certifying Officer, Division of Trade Adjustment Assistance.

Appendix
[TAA petitions instituted between 12/29/08 and 1/2/09]
TA-W | Subject firm (petitioners) | Location | Date of institution | Date of petition
64779 | Diversified Contract Services, Inc., #639 (IBT) | Fenton, MO | 12/29/08 | 12/10/08
64780 | Bayer Clothing Group, Inc. (Comp) | Clearfield, PA | 12/29/08 | 12/24/08
64781 | Quality Synthetic Rubber, Inc. (Wkrs) | Twinsburg, OH | 12/29/08 | 12/24/08
64782 | Brunswick (Lund Crestliner) (State) | New York Mills, MN | 12/29/08 | 12/24/08
64783 | Coherent, Inc. (State) | Bloomfield, CT | 12/29/08 | 12/26/08
64784 | Kenworth Truck Co. (Wkrs) | Renton, WA | 12/30/08 | 12/18/08
64785 | Wallenius Wilhelmsen Logistics (Comp) | Woodcliff Lake, NJ | 12/30/08 | 12/18/08
64786 | Schott-Gemtron Corp (Comp) | Vincennes, IN | 12/30/08 | 12/22/08
64787 | J.I.T. Tool & Die, Inc. (Comp) | Brockport, PA | 12/30/08 | 12/17/08
64788 | Regal Manufacturing Co., Inc. (Comp) | Hickory, NC | 12/30/08 | 12/29/08
64789 | Bemis Manufacturing Co (State) | Menomonee Falls, WI | 12/30/08 | 12/29/08
64790 | Futaba Indiana of America (Wkrs) | Vincennes, IN | 12/30/08 | 12/29/08
64791 | IMI Cornelius Equipco, Inc. (Comp) | Monmouth, IL | 12/30/08 | 12/29/08
64792 | Aetrium Corporation (State) | Norh St. Paul, MN | 12/31/08 | 12/29/08
64793 | Lukas Confections, Inc. (Comp) | York, PA | 12/31/08 | 12/23/08
64794 | Standard Textile (Wkrs) | Thomaston, GA | 12/31/08 | 12/30/08
64795 | Appleton Papers, Inc. (Comp) | Appleton, WI | 12/31/08 | 12/19/08
64796 | Tracy Evans, Ltd (Wkrs) | New York, NY | 12/31/08 | 12/15/08
64797 | Whatman (Comp) | Sanford, ME | 12/31/08 | 12/30/08
64798 | Tenaris Corporation (State) | Blytheville, AR | 12/31/08 | 12/29/08
64799 | Aromatique, Inc. (State) | Mt. View, AR | 12/31/08 | 12/29/08
64800 | Flex Y Plan Industries, Inc. (Comp) | Fairview, PA | 12/31/08 | 12/30/08
64801 | Cequent Electrical Products (Comp) | Angola, IN | 12/31/08 | 12/30/08
64802 | Affiliated Computer Services (Wkrs) | Pittsburgh, PA | 12/31/08 | 12/22/08
64803 | Star Telegram (Wkrs) | Fort Worth, TX | 12/31/08 | 12/26/08
64804 | Andew, LLC (Comp) | Norcross, GA | 12/31/08 | 12/30/08
64805 | Lane Home Furnishing (Wren) (Wkrs) | Tupelo, MS | 01/02/09 | 12/16/08
64806 | Garvin Industries (Wkrs) | Adamsville, PA | 01/02/09 | 12/30/08

[FR Doc. E9-1483 Filed 1-23-09; 8:45 am]

BILLING CODE 4510-FN-P